DEPARTMENT OF EDUCATION

RIN 1865-ZA02

Safe Schools/Healthy Students

AGENCY: Office of Safe and Drug-Free Schools, Department of Education.

ACTION: Notice of final priority, selection criteria, requirements, and definitions.

SUMMARY: We announce a priority, selection criteria, requirements, and definitions under the Safe Schools/Healthy Students program. We may use this priority, selection criteria, requirements, and definitions for competitions in fiscal year (FY) 2004 and later years. We take this action to focus Federal financial assistance on safe, disciplined, and drug-free learning environments and healthy childhood development. We intend the priority to support the implementation and enhancement of integrated, comprehensive, community-wide plans designed to create safe and drug-free schools and promote healthy childhood development.

DATES: Effective Date: This priority, selection criteria, requirements, and definitions are effective June 28, 2004.

FOR FURTHER INFORMATION CONTACT: Karen Dorsey, U.S. Department of Education, 400 Maryland Avenue, SW., room 3E347, Washington, DC 20202-6450. Telephone (202) 708-4674 or via Internet: Karen.Dorsey@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: The Safe Schools/Healthy Students program (SS/HS) provides Federal financial assistance to school districts and communities to promote ongoing partnerships as a way to enhance and expand their existing activities relating to youth violence prevention and healthy child development. The establishment in this notice of a priority, selection criteria, requirements, and definitions is designed to provide prospective applicants with increased knowledge of and insight into the critical features of SS/HS and the qualities of successful SS/HS grantees and to define key terms specific to SS/HS.

The critical feature of SS/HS is the linking and integration of existing and new services and activities into a comprehensive approach to violence prevention and healthy child development. Key to this critical feature is recognizing that a comprehensive approach reflects an overall vision for the community, not the isolated objectives of a single activity, such as the reliance on security devices alone. Thus, the primary objective of an applicant's SS/HS proposal should be to present a thoughtful, well-coordinated plan that will unify and enhance existing programs and services to develop a systematic approach for implementing and sustaining those activities, curricula, programs, and services that prove to be effective.

Additionally, the SS/HS initiative draws on the best practices of education, justice, social service, and mental health systems to promote enhanced resources for prevention programs and prosocial services for youth. SS/HS grants provide a unique opportunity for local educational agencies (LEAs), in partnership with justice, social services, and mental health systems in their communities, to develop a continuum of activities and services that responds to gaps and weaknesses identified by needs assessments conducted in those communities. These distinctive features of SS/HS make appropriate the adoption of program-specific selection criteria, which are also included in this notice.

Finally, to respond to previous applicants' misunderstanding regarding eligibility, the maximum level of funding that can be requested, and requirements for key partners, we announce requirements that all applications must meet in order to be forwarded to peer review. To further support a prospective applicant's understanding of the requirements, this notice also defines seven important terms associated with SS/HS that are not defined in the program statute.

We published a notice of proposed priority, selection criteria, requirements, and definitions for this program in the Federal Register on Thursday, March 18, 2004 (69 FR 12841).

There are no differences between the notice of proposed priority, selection criteria, requirements, and definitions and this notice of final priority, selection criteria, requirements, and definitions.

Analysis of Comments and Changes

In response to our invitation in the notice of proposed priority, selection criteria, requirements, and definitions, three parties submitted comments on the proposed application and eligibility requirements. An analysis of the comments follows. None of the comments resulted in changes in the proposed application or eligibility requirements.

Generally, we do not address technical and other minor changes and suggested changes we are not authorized to make under the applicable statutory authority.

Comment: One commenter recommended including local substance abuse prevention agencies either as a required SS/HS partner or by replacing the term “local public mental health authority” with the term “local behavioral health authority(ies).” In addition, the commenter recommended that definitions for the SS/HS initiative be changed accordingly.

Discussion: In some States and localities, local substance abuse prevention agencies are separate from mental health agencies. In other States and localities, the mental health and substance abuse authorities at the State and local level are combined. Because of the variation in these structures, we would have no way of knowing which applicants are in localities in which separate local agencies for public mental health and substance prevention exist and which would require an additional SS/HS partner if we adopted the change requested by the commenter. As a result, if we accepted the proposed change we would be unable to make an accurate determination regarding an applicant's eligibility.

In developing their SS/HS grant proposals, applicants are strongly encouraged to partner with a range of community organizations and entities that would enhance and support their comprehensive plan for violence prevention and healthy child promotion. Those LEAs situated in localities with a separate local substance abuse prevention agency could include this type of agency as a SS/HS partner.

Change: None.

Comment: Another commenter recommended that each LEA represented in a rural consortium be eligible for the maximum $1 million yearly award available to individual rural LEA applicants.

Discussion: LEAs are eligible to apply for SS/HS grants either individually or as a member of a consortium. A rural LEA and its partners should consider the project scope they have developed and the budget that the project scope will require in deciding whether to apply individually or as a member of a consortium. Nothing prevents individual LEAs from working cooperatively once they receive SS/HS awards.

Change: None.

Comment: A third commenter recommended that, because the proposed requirements limit eligibility to LEAs that have not received previous SS/HS grants or services, States with a single LEA be allowed to submit applications from individual schools.

Discussion: This commenter's concern could be addressed either by allowing applications from individual schools or by removing the restriction on an LEA receiving more than one SS/HS award. However, conference report language that supported the initial creation of the SS/HS initiative required that grants under the initiative be made to LEAs and, based on our experience in administering the initiative over the past several years, we believe that it is appropriate to continue to require that responsibility for administration of complex projects rest with an LEA, not an individual school.

While we understand that the variation in State governance structures for education may result in limiting the number of entities in a State that are eligible to apply for funding under this program, we believe that permitting individual schools or other educational entities that are not LEAs to apply for an SS/HS grant would be inconsistent with the initiative's intent to support comprehensive, community-wide change.

We have excluded recipients of SS/HS grants from receiving another grant under the program in order to provide as many LEAs as possible the opportunity to implement and enhance comprehensive community-wide strategies for creating safe and drug-free schools. The SS/HS initiative is designed to provide LEAs with a unique opportunity to design and implement partnerships with law enforcement, juvenile justice, and mental health partners that are designed to reshape the manner in which substance abuse and violence prevention services, as well as mental health services, are delivered to students.

Change: None.

Note: This notice does not solicit applications. In any year in which we choose to use this priority, selection criteria, requirements, and definitions, we invite applications through a notice in the Federal Register. When inviting applications we designate the priority as absolute, competitive preference or invitational. The effect of each type of priority follows:

Absolute priority: Under an absolute priority we consider only applications that meet the priority (34 CFR 75.105(c)(3)).

Competitive preference priority: Under a competitive preference priority we give competitive preference to an application by either (1) awarding additional points, depending on how well or the extent to which the applications meets the competitive priority (34 CFR 75.104(c)(2)(i)); or (2) selecting an application that meets the competitive priority over an application of comparable merit that does not meet the priority (34 CFR 75.105(c)(2)(ii)).

Invitational priority: Under an invitational priority we are particularly interested in applications that meet the invitational priority. However, we do not give a competitive or absolute preference over other applications (34 CFR 75.105(c)(1)).

Priority: This priority supports the projects of LEAs proposing to implement an integrated, comprehensive community-wide plan designed to create safe and drug-free schools and promote prosocial skills and healthy childhood development in youth. Plans must focus activities, curricula, programs, and services in a manner that responds to all of the following six elements—

• Element One—Safe school environment—Note: No more than 10 percent of the total budget for each year may be used to support costs associated with (1) security equipment and personnel, and (2) minor remodeling of school facilities to improve school safety;

• Element Two—Alcohol and other drugs and violence prevention and early intervention programs;

• Element Three—School and community mental health preventive and treatment intervention services;

• Element Four—Early childhood psychosocial and emotional development programs;

• Element Five—Supporting and connecting schools and communities; and

• Element Six—Safe school policies.

Selection Criteria: The selection criteria for this program are:

1. Community Assessment

(a) The extent to which specific gaps or weaknesses in services, infrastructure, opportunities, and/or resources have been identified and will be addressed by the proposed project and the nature and magnitude of those gaps and weaknesses are based on quantitative and qualitative data for the district, students, families and the community. An example of the kinds of problems that might be identified and addressed would be a high number of truant students, in relation to comparable jurisdictions, and a lack of truancy officers and programs.

(b) The extent to which existing services, infrastructure, opportunities and resources are described and integrated with the proposed project. An example citing existing services would be the number of after school programs available to students that would be improved by adding supplemental services and staff through the proposed project.

(c) The extent to which the applicant will serve the entire school district or the extent to which sufficient rationale is provided for selecting particular schools and/or areas and why a district-wide approach is not feasible or appropriate.

(d) The extent to which the target population is clearly identified and defined in terms of the number of students/families/staff to be served.

2. Goals, Objectives and Performance Indicators

(a) The extent to which the goals, objectives, and performance indicators for the project are related to data provided in the “Community Assessment” section.

(b) The extent to which the applicant includes at least one measurable and attainable performance indicator for each of the six elements in the priority and at least one performance indicator for the SS/HS partnership, for a total of at least seven performance indicators.

(c) The extent to which the goals, objectives, and performance indicators are reflected in proposed programs, curricula, and other activities.

(d) The extent to which the applicant includes baseline data and a source of data for the periodic measuring of progress of project-specific performance indicators and for required Government Performance and Results Act (GPRA) performance indicators.

3. Project Design

(a) The extent to which the project design builds upon community assessment data, and/or identified gaps or weaknesses in existing services, infrastructure, opportunities, and resources.

(b) The extent to which the applicant can demonstrate that programs, training, curriculum, and other activities selected for the project reflect current research and use evidence-based and effective practices and that they are responsive to the targeted population to be served, including meeting cultural and linguistic needs.

(c) The extent to which the proposed short- and long-term strategies will promote healthy child development and school environments that are safe, disciplined, and drug-free.

(d) The extent to which the proposed short- and long-term strategies allow for systematic development of infrastructure that builds organizational, community, and individual capacity to sustain outcomes beyond the life of the grant.

(e) The extent to which the project design addresses the six elements of the priority, integrating existing and new services into a comprehensive approach to violence prevention and healthy childhood development.

4. Partnership and Community Readiness

(a) The extent to which the applicant has demonstrated the existence of an active school-community partnership prior to planning and submitting its SS/HS application. An example of how to demonstrate the existing partnership would be to include a description of the history of the partnership, including the circumstances around its creation and accomplishments to date.

(b) The extent to which the applicant will engage multiple and diverse sectors of the community in its strategic planning process. Examples of possible community participants include but are not limited to nonprofit community groups, faith-based organizations, private schools, teachers, youth, parents, and supervisory and line staff of social service agencies.

(c) The extent to which the applicant's memorandum of agreement for SS/HS Partners includes: A mission statement for the SS/HS partnership; a delineation of the roles and responsibilities of each partner; a process for communicating and sharing resources; and other pertinent information to evaluate the partnership's likelihood of successfully implementing the project.

(d) The extent to which the applicant's memorandum of agreement for mental health services demonstrates the willingness of the public mental health authority to provide administrative oversight of mental health services. This agreement describes a process for securing mental health providers and procedures to be used for referral, treatment, and follow-up for children and adolescents with serious mental health problems. This agreement provides evidence that there will be integration, coordination, and resource sharing with mental health and social service providers by schools and other community-based programs.

5. Evaluation

(a) The extent to which the applicant describes an appropriate evaluation design—using both quantitative and qualitative methods, including: (1) What types of data will be collected; (2) when various types of data will be collected; (3) what evaluation methods will be used and why; (4) what instruments will be developed and when; (5) how the data will be analyzed; (6) when reports of results and outcomes will be available; (7) how data and other information will be used for strategic planning, measuring progress, making programmatic adjustments, and keeping the proposed strategy focused on its overall objective of promoting healthy childhood development and preventing violence and alcohol and other drug abuse; and (8) how the applicant will use the information collected through the evaluation to support SS/HS GPRA indicators.

(b) The extent to which the individual or organization that has been selected or will be sought to serve as the local evaluator has adequate qualifications and experience to conduct the local evaluation.

(c) The extent to which the applicant allocates an appropriate and reasonable level of resources to local project evaluation.

Note: Consistent with funding restrictions established for the program, a minimum of 7 percent of the total budget must be designated for local evaluation activities.

6. Program Management

(a) The extent to which the roles and responsibilities of key staff, including the full-time project director, and partners are defined.

(b) The adequacy of the management plan to achieve the objectives of the proposed project on time, including clearly defined timelines with reasonable dates for implementing and accomplishing project tasks.

(c) The adequacy of procedures for communicating and sharing information among all partners, to ensure feedback and continuous improvement in the operation of the project.

7. Budget

(a) The extent to which the proposed budget and narrative correspond to the project design and provide adequate documentation and justification for how funds will be used and how costs were calculated.

(b) The extent to which the applicant demonstrates current fiscal control and accounting procedures to ensure prudent use, proper and timely disbursement, and accurate accounting of funds received under the grant.

Additional Selection Factors

The following two factors may be considered in selecting an application for an award: (1) Geographic distribution and diversity of activities addressed by the projects; and (2) equitable distribution of funds among urban, suburban and rural LEAs.

Application and Eligibility Requirements. Before we will submit an SS/HS application for peer review, the applicant must meet the following requirements:

(1) The LEA/applicant must not have received funds or services under the SS/HS initiative under any previous fiscal years.

(2) The applicant's request for funding must not exceed the maximum amount established for its defined urbanicity. The maximum request for SS/HS funds is $1 million for rural and Bureau of Indian Affairs (BIA) schools for a 12-month period; $2 million for suburban schools for a 12-month period; and $3 million for urban schools for a 12-month period. To determine urbanicity and the maximum amount they are eligible to apply for, all applicants except BIA schools must use the district locale code on the National Public School and School District Locator website and the definitions established in this notice for rural, suburban and urban to determine urbanicity. A BIA school's request must not exceed $1 million.

(3) The applicant must include in its application two memoranda of agreement demonstrating the commitment of the required SS/HS partners. Two agreements must be signed by the required partners (as described in paragraphs (a) and (b)) and dated no earlier than six months prior to the SS/HS application deadline. Applicants must also include information in the application that supports the selection of the identified local law enforcement and juvenile justice partner and describe how those partners' activities will support and be integrated in the SS/HS strategy. Applicants must contact their State Department of Mental Health to identify the relevant local public mental health authority. Mental health entities that have no legal authority in the administrative oversight of the delivery of mental health services are not acceptable as the sole mental health partner. Each SS/HS application must include the local public mental health authority (as defined elsewhere in this notice) as a partner. (The local public mental health authority is not required to provide mental health services to the target population but must provide administrative control or oversight of the delivery of mental health services.)

(a) The first of these two agreements is the Memorandum of Agreement for the SS/HS Partners. This agreement must contain the signatures of the school superintendent and authorized representatives for the local public mental health authority and local law enforcement and juvenile justice agencies. This agreement must include the following information: A mission statement for the SS/HS partnership; the goals and objectives of the partnership; desired outcomes for the partnership; a description of how information will be shared among partners; and a description of the roles and responsibilities of each partner. Applicants submitting as a consortium of LEAs must demonstrate partnership with the relevant local law enforcement agency (or agencies), public mental health authority (or authorities) and juvenile justice agency (or agencies) for each of the participating LEAs in the consortium. Applicants must indicate those instances where a local law enforcement agency, public mental health authority, or juvenile justice agency has authority or jurisdiction for one or more of the participating LEAs in the consortium.

(b) The second of these two agreements is the Memorandum of Agreement for Mental Health Services. This agreement must contain the signatures of the school superintendent and the authorized representative of the local public mental health authority. The local public mental health authority must agree to provide administrative control and/or oversight of the delivery of mental health services. This agreement also must state procedures to be used for referral, treatment, and follow-up for children and adolescents with serious mental health problems. Applicants submitting as a consortium of LEAs must demonstrate partnership with the relevant public mental health authority (or authorities) for each of the participating LEAs in the consortium. Applicants must indicate those instances where a local public mental health authority has authority/jurisdiction for one or more of the participating LEAs in the consortium.

Funding Restrictions: No less than 7 percent of a grantee's budget for each year may be used to support costs associated with local evaluation activities. No more than 10% of the total budget for each year may be used to support costs associated with (1) security equipment and personnel, and (2) minor remodeling of school facilities to improve school safety.

Definitions: 1. Authorized representative—The term authorized representative means the official within an organization with the legal authority to give assurances, make commitments, enter into contracts, and execute such documents on behalf of the organization as may be required by the Department of Education (the Department), including certification that commitments made in grant proposals will be honored and that the applicant agrees to comply with the Department's regulations, guidelines, and policies.

2. Local law enforcement agency—The term local law enforcement agency means the agency (or agencies) that has law enforcement authority for the LEA. Examples of local law enforcement agencies include: Municipal, county, and State police; tribal police and councils; and sheriffs' departments.

3. Local public mental health authority—The term local public mental health authority means the entity legally constituted (directly or through contract with the State mental health authority) to provide administrative control or oversight of mental health services delivery within the community.

4. Local juvenile justice agency—The term local juvenile justice agency means an agency or entity at the local level that is officially recognized by State or local government to address juvenile justice system issues in the communities to be served by the grant. Examples of juvenile justice agencies include: Juvenile justice task forces; juvenile justice centers; juvenile or family courts; juvenile probation agencies; and juvenile corrections agencies.

5. Urban districts—The term urban districts means those LEAs with a designated locale code of Large Central City (1) or Mid-Size Central City (2) using the National Center for Education Statistics' National Public School and School District Locator (available online at http://nces.ed.gov/ccd/districtsearch/).

6. Suburban districts—The term suburban districts means those LEAs with a designated locale code of Urban Fringe of Large City (3) or Urban Fringe of Mid-Size City (4) using the National Center for Education Statistics' National Public School and School District Locator (available online at http://nces.ed.gov/ccd/districtsearch/).

7. Rural districts—The term rural districts means those LEAs with a designated locale code of Large Town (5), Small Town (6) or Rural, outside MSA (7), or Rural, inside MSA (8) using the National Center for Education Statistics' National Public School and School District Locator (available online at http://nces.ed.gov/ccd/districtsearch/).

Executive Order 12866

This notice of final priority, selection criteria, requirements, and definitions has been reviewed in accordance with Executive Order 12866. Under the terms of the order, we have assessed the potential costs and benefits of this regulatory action.

The potential costs associated with the notice of final priority, selection criteria, requirements, and definitions are those resulting from statutory requirements and those we have determined as necessary for administering this program effectively and efficiently.

In assessing the potential costs and benefits—both quantitative and qualitative—of this notice of final priority, selection criteria, requirements, and definitions, we have determined that the benefits of the final priority, selection criteria, requirements, and definitions justify the costs.

We have also determined that this regulatory action does not unduly interfere with State, local, and tribal governments in the exercise of their governmental functions.

We summarized the costs and benefits in the notice of proposed priority, selection criteria, requirements, and definitions.

Intergovernmental Review

This program is subject to Executive Order 12372 and the regulations in 34 CFR part 79. One of the objectives of the Executive order is to foster an intergovernmental partnership and a strengthened federalism. The Executive order relies on processes developed by State and local governments for coordination and review of proposed Federal financial assistance.

This provides early notification of our specific plans and actions for this program.

Applicable Program Regulations: The Education Department General Administrative Regulations (EDGAR) in 34 CFR parts 74, 75, 77, 79, 80, 81, 82, 84, 85, 98, 99, and 299.

Electronic Access to This Document

You may view this document, as well as other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

(Catalog of Federal Domestic Assistance Number 84.184L Safe Schools/Healthy Students.)

Program Authority: Safe and Drug-Free Schools and Communities Act (20 U.S.C. 7131); Public Health Service Act (42 U.S.C. 290aa); and Juvenile Justice and Delinquency Prevention Act (42 U.S.C. 5614(b)(4)(e) and 5781 et seq.).

Dated: May 24, 2004.
Deborah A. Price,
Deputy Under Secretary for Safe and Drug-Free Schools.

[FR Doc. 04-12074 Filed 5-27-04; 8:45 am]

BILLING CODE 4000-01-U